DEPARTMENT OF THE TREASURY

Submission for OMB Review; Comment Request

May 22, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 29, 2001 to be assured of consideration.

Bureau of Alcohol, Tobacco and Firearms (BATF)

OMB Number: 1512-0525.

Form Number: ATF F 5300.38.

Type of Review: Extension.

Title: Application for an Amended Federal Firearms License.

Description: This form is used when a Federal firearms licensee makes application to change the location of the firearms business premises. The applicant must certify that the proposed new business premises will be in compliance with State and local law for that location, and forward a copy of the application to the chief law enforcement officer having jurisdiction over the new premises.

Respondents: Business or other for-profit, Individuals or households.

Estimated Number of Respondents: 18,000.

Estimated Burden Hours Per Respondent: 1 hour, 15 minutes.

Estimated Total Reporting Burden: 22,500.

OMB Number: 1512-0526.

Form Number: None.

Type of Review: Extension.

Title: Implementation of Public Law 103-322, The Violent Crime Control and Law Enforcement Act of 1994.

Description: These regulations implement the provisions of Public Law 103-322 by restricting the manufacture, transfer, and possession of certain semiautomatic assault weapons and large capacity ammunition feeding devices.

Respondents: Business or other for-profit, Individuals or households.

Estimated Number of Respondents/Recordkeepers: 2,107,000.

Estimated Burden Hours Per Respondent/Recordkeeper:

Reporting—6 minutes

Recordkeeping—2 hours, 42 minutes

Frequency of Response: On occasion.

Estimated Total Reporting/Recordkeeping Burden: 458,942 hours.

Clearance Officer: Frank Bowers, (202) 927-8930, Bureau of Alcohol, Tobacco and Firearms, Room 3200, 650 Massachusetts Avenue, NW, Washington, DC 20226.

OMB Reviewer: Alexander T. Hunt, (202) 395-7860, Office of Management and Budget, Room 10202, New Executive Office Building, Washington, DC 20503.

Mary A. Able,
Departmental Reports Management Officer.

[FR Doc. 01-13469 Filed 5-29-01; 8:45 am]

BILLING CODE 4810-31-U